DEPARTMENT OF JUSTICE

Notice of Lodging of Proposed Consent Decree Under the Comprehensive Environmental Response, Compensation, and Liability Act (“CERCLA”)

On December 21, 2017, the Department of Justice lodged a proposed Consent Decree with the United States District Court for the Eastern District of California that would resolve the lawsuit entitled United States v. Coast Wood Preserving, Inc., Civil Action No. 1:17-cv-01720. The proposed Consent Decree was lodged in the related case State of California Department of Toxic Substances Control and Toxic Substances Control Account v. Coast Wood Preserving, et al., Civil Action No. CV-F-96-6055, which would also be resolved by the proposed Consent Decree. The Department of Justice has filed a motion requesting that these two cases be considered together by the court for purposes of settlement.

This case involves claims under CERCLA relating to the costs of remediating soil and groundwater contamination at the Coast Wood Preserving Site in Ukiah, California (the “Site”). Under the proposed Consent Decree, Coast Wood Preserving, Inc. agrees to conduct the remaining cleanup work at the Site, to pay $57,450 for EPA's past response costs incurred in connection with the Site, and to pay any such costs EPA incurs in the future. In exchange, Coast Wood Preserving, Inc. receives a covenant not to sue under Sections 106 and 107 of CERCLA and Section 7003 of the Resource Conservation and Recovery Act (“RCRA”). A group of current and former shareholders and employees of Coast Wood Preserving, Inc.—the Michael Logsdon Wood Trust, the Schmidt Wood Trust, Joyce Logsdon, Eugene E. Pietila, and Robert Schmidt—are also parties to the proposed Consent Decree, and also receive covenants not to sue under CERCLA and RCRA.

The publication of this notice opens a period for public comment on the proposed Consent Decree. Comments should be addressed to the Assistant Attorney General, Environment and Natural Resources Division, and should refer to United States v. Coast Wood Preserving, Inc., D.J. Ref. No. 90-11-3-835/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $177.00 (25 cents per page reproduction cost) payable to the United States Treasury. For a paper copy without the exhibits and signature pages, the cost is $28.25.

Henry S. Friedman,
Assistant Section Chief, Environmental Enforcement Section, Environment and Natural Resources Division.

[FR Doc. 2017-28143 Filed 12-28-17; 8:45 am]

BILLING CODE 4410-15-P